DEPARTMENT OF VETERANS AFFAIRS

38 CFR Part 36

RIN 2900-AF00

Schedule for Rating Disabilities; The Skin

AGENCY: Department of Veterans Affairs.

ACTION: Final rule; correction.

SUMMARY: In a document published in the Federal Register on July 31, 2002, (67 FR 49590), we amended that portion of the Department of Veterans Affairs (VA) Schedule for Rating Disabilities that addresses the skin. The document contains an error in the Supplementary Information portion of the preamble. That error consists of an incorrect restatement of regulatory text. This document corrects that error.

DATES: Effective Date: This correction is effective July 31, 2002.

FOR FURTHER INFORMATION CONTACT: Caroll McBrine, M.D., Consultant, Policy and Regulations Staff (211B), Compensation and Pension Service, Veterans Benefits Administration, Department of Veterans Affairs, 810 Vermont Avenue NW., Washington, DC 20420, (202) 273-7230.

SUPPLEMENTARY INFORMATION: In rule FR Doc. 02-19331, published on July 31, 2002 (67 FR 49590), on page 49595, in column 1, the first paragraph, the phrase “a 30-percent evaluation calls for recurrent debilitating episodes at least four times during the past 12-month period despite ongoing immunosuppressive therapy” is corrected to read “a 30-percent evaluation calls for recurrent debilitating episodes at least four times during the past 12-month period, and requiring intermittent systemic immunosuppressive therapy.”

Approved: October 1, 2002.
Roland Halstead,
Acting Director, Office of Regulatory Law.

[FR Doc. 02-25492 Filed 10-8-02; 8:45 am]

BILLING CODE 8320-01-P